FEDERAL COMMUNICATIONS COMMISSION

[DA 12-1400]

Consumer Advisory Committee

AGENCY: Federal Communications Commission.

ACTION: Notice.

SUMMARY: The Commission announces the next meeting date, time, and agenda of its Consumer Advisory Committee (Committee). The purpose of the Committee is to make recommendations to the Commission regarding matters within the jurisdiction of the Commission and to facilitate the participation of all consumers in proceedings before the Commission.

DATES: The next meeting of the Committee will take place on Friday, September 21, 2012, 2:00 p.m. to 4:00 p.m., in the Commission's Meeting Room, TW-C305.

ADDRESSES: Federal Communications Commission, 445 12th Street SW., Washington, DC 20554.

FOR FURTHER INFORMATION CONTACT: Scott Marshall, Consumer and Governmental Affairs Bureau, (202) 418-2809 (voice or TTY), or email Scott.Marshall@fcc.gov.

SUPPLEMENTARY INFORMATION: This is a summary of the Commission's document DA 12-1400 released August 24, 2012, announcing the agenda, date and time of the Committee's next meeting.

Meeting Agenda

At its September 21, 2012 meeting, it is expected that the Committee will consider one recommendation from its Broadband Working Group regarding broadband adoption; two recommendations from the Committee's Consumer Empowerment Group regarding text spamming and third-party wireless shutdowns; two recommendations from the Universal Service Working Group regarding Lifeline outreach and affordable calling from prisons; and one recommendation from the Consumer Complaints Task Force regarding the Commission's telephone IVR and web complaint systems. The Committee may also consider other recommendations from its working groups, and may also receive briefings from FCC staff and outside speakers on matters of interest to the Committee. A limited amount of time will be available on the agenda for questions and comments from the public. Meetings of the Committee are also broadcast live with open captioning over the Internet from the FCC Live Web page at www.fcc.gov/live/.

The public may ask questions of presenters via email at livequestions@fcc.gov, or via Twitter using the hashtag #fcclive. In addition, the public may also follow the meeting on Twitter @fcc or via the Commission's Facebook page at www.facebook.com/fcc. Alternatively, written comments to the Committee may be sent to: Scott Marshall, Designated Federal Officer of the Committee, at the address provided above.

The meeting is open to the public and the site is fully accessible to people using wheelchairs or other mobility aids. Sign language interpreters, open captioning, assistive listening devices, and Braille copies of the agenda and handouts will be provided on site.

Other reasonable accommodations for people with disabilities are available upon request. The request should include a detailed description of the accommodation needed and contact information. Please provide as much advance notice as possible; last minute requests will be accepted, but may be impossible to fill. Send an email to fcc504@fcc.gov or call the Consumer and Governmental Affairs Bureau at 202-418-0530 (voice), 202-418-0432 (TTY).

Federal Communications Commission.
Mark Stone,
Deputy Bureau Chief, Consumer and Governmental Affairs Bureau.

[FR Doc. 2012-21878 Filed 9-6-12; 8:45 am]

BILLING CODE 6712-01-P